DEPARTMENT OF COMMERCE

Foreign-Trade Zones Board

[B-31-2015]

Foreign-Trade Zone 44—Mount Olive, New Jersey, Authorization of Production Activity, Robertet, Inc., (Fragrance Compounds), Mount Olive, New Jersey

On May 6, 2015, Robertet, Inc. submitted a notification of proposed production activity to the Foreign-Trade Zones (FTZ) Board for its facility within FTZ 44-Site 1 in Mount Olive, New Jersey.

The notification was processed in accordance with the regulations of the FTZ Board (15 CFR part 400), including notice in the Federal Register inviting public comment (80 FR 27628-27631, 05-14-2015). The FTZ Board has determined that no further review of the activity is warranted at this time. The production activity described in the notification is authorized, subject to the FTZ Act and the Board's regulations, including Section 400.14.

Dated: September 4, 2015.
Andrew McGilvray,
Executive Secretary.

[FR Doc. 2015-23077 Filed 9-11-15; 8:45 am]

BILLING CODE 3510-DS-P